DEPARTMENT OF THE INTERIOR

Bureau of Land Management

[WO-260-09-1060-00-24 1A]

Correction to Notice of Call for Nominations for the Wild Horse and Burro Advisory Board

AGENCY: Bureau of Land Management, Interior.

ACTION: Correction to Notice of Call for Nominations for the Wild Horse and Burro Advisory Board. This notice was previously published in the Federal Register: Vol. 71, No. 114/Wednesday, June 14, 2006.

SUMMARY: The Federal Register Notice has an incorrect date for nominations to be submitted to the National Wild Horse and Burro Advisory Board. The corrected notice extends the date to September 5, 2006. The nominations should be submitted to the National Wild Horse and Burro Program, Bureau of Land Management, Department of the Interior, P.O. Box 12000, Reno, Nevada 89520-0006, Attn: Ramona DeLorme: fax (775) 861-6711.

FOR FURTHER INFORMATION CONTACT: Don Glenn, Acting Division Chief, Wild Horse and Burro Group, (202) 452-5082. Individuals who use a telecommunications device for the deaf (TDD) may reach Ms. DeLorme at any time by calling the Federal Information Relay Service at 1 (800) 877-8339.

Dated: July 13, 2006.
Carolyn McClellan,
Acting Deputy Assistant Director, Renewable Resources and Planning.

[FR Doc. E6-12606 Filed 8-3-06; 8:45 am]

BILLING CODE 4310-84-P